DEPARTMENT OF TRANSPORTATION

Surface Transportation Board

[Docket No. AB 32 (Sub-No. 71X)]

Boston & Maine Corporation―Abandonment Exemption―in Essex, Middlesex, and Suffolk Counties, MA

Boston & Maine Corporation (B&M) filed a verified notice of exemption under 49 CFR pt. 1152 subpart F-Exempt Abandonments to abandon a 9.74-mile portion of a line of railroad known as the Saugus Branch, extending from milepost 2.69 to milepost 12.43, in Saugus, Essex, Middlesex, and Suffolk Counties, Mass. The line traverses United States Postal Service Zip Codes 02149, 02151, 02148, 01905, and 01906.¹

¹ On July 6, 2010, B&M amended its notice of exemption. On July 14, 2010, B&M amended and corrected its notice.

B&M has certified that: (1) No local traffic has moved over the line for at least 2 years; (2) there is no overhead traffic on the line; (3) no formal complaint filed by a user of rail service on the line (or by a State or local government entity acting on behalf of such user) regarding cessation of service over the line either is pending with the Surface Transportation Board (Board) or with any U.S. District Court or has been decided in favor of complainant within the 2-year period; and (4) the requirements at 49 CFR 1105.7 (environmental report), 49 CFR 1105.8 (historic report), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on August 21, 2010, unless stayed pending reconsideration. Petitions to stay that do not involve environmental issues,² formal expressions of intent to file an OFA under 49 CFR 1152.27(c)(2),³ and trail use/rail banking requests under 49 CFR 1152.29 must be filed by August 2, 2010. Petitions to reopen or requests for public use conditions under 49 CFR 1152.28 must be filed by August 11, 2010, with the Surface Transportation Board, 395 E Street, SW., Washington, DC 20423-0001.⁴

² The Board will grant a stay if an informed decision on environmental issues (whether raised by a party or by the Board's Section of Environmental Analysis (SEA) in its independent investigation) cannot be made before the exemption's effective date. See Exemption of Out-of-Serv. Rail Lines, 5 I.C.C.2d 377 (1989). Any request for a stay should be filed as soon as possible so that the Board may take appropriate action before the exemption's effective date.

³ Each OFA must be accompanied by the filing fee, which is currently set at $1,500. See 49 CFR 1002.2(f)(25).

⁴ B&M states that it is unsure about the suitability of the line for public non-rail purposes. Upon the effective date of the abandonment, B&M notes that its easement interests will terminate and title to the line will vest solely in the Massachusetts Bay Transportation Authority.

A copy of any petition filed with the Board should be sent to B&M's representative: Robert B. Burns, Esq., Boston & Maine Corporation, Iron Horse Park, North Billerica, MA 01862.

If the verified notice contains false or misleading information, the exemption is void ab initio.

B&M has filed a combined environmental and historic report which addresses the effects, if any, of the abandonment on the environment and historic resources. SEA will issue an environmental assessment (EA) by July 27, 2010. Interested persons may obtain a copy of the EA by writing to SEA (Room 1100, Surface Transportation Board, Washington, DC 20423-0001) or by calling SEA, at (202) 245-0305. Assistance for the hearing impaired is available through the Federal Information Relay Service (FIRS) at 1-800-877-8339. Comments on environmental and historic preservation matters must be filed within 15 days after the EA becomes available to the public.

Environmental, historic preservation, public use, or trail use/rail banking conditions will be imposed, where appropriate, in a subsequent decision.

Pursuant to the provisions of 49 CFR 1152.29(e)(2), B&M shall file a notice of consummation with the Board to signify that it has exercised the authority granted and fully abandoned the line. If consummation has not been effected by B&M's filing of a notice of consummation by July 22, 2011, and there are no legal or regulatory barriers to consummation, the authority to abandon will automatically expire.

Board decisions and notices are available on our Web site at http://www.stb.dot.gov.

Decided: July 16, 2010.
By the Board.
Rachel D. Campbell,
Director, Office of Proceedings.
Jeffrey Herzig,
Clearance Clerk.

[FR Doc. 2010-17920 Filed 7-21-10; 8:45 am]

BILLING CODE 4915-01-P